SMALL BUSINESS ADMINISTRATION

[Declaration of Disaster #3332) (Amendment # 1)]

Commonwealth of Massachusetts

In accordance with notices received from the Federal Emergency Management Agency, dated April 16, 2001 and April 19, 2001, the above-numbered Declaration is hereby amended to include Bristol, Plymouth, Suffolk and Worcester Counties in the Commonwealth of Massachusetts as disaster areas caused by severe storms beginning on March 5, 2001. In addition, the Declaration is hereby amended to establish the incident period for this disaster as beginning on March 5, 2001 and continuing through April 16, 2001.

In addition, applications for economic injury loans from small businesses located in Barnstable, Franklin, Hampden and Hampshire Counties in the Commonwealth of Massachusetts; Windham and Tolland Counties in the State of Connecticut; Cheshire County in the State of New Hampshire; and Bristol and Newport Counties in the State of Rhode Island may be filed until the specified date at the previously designated location. Any counties contiguous to the above named primary counties and not listed here have been previously declared.

The number assigned for economic injury in the State of Connecticut is 9L5000.

All other information remains the same, i.e., the deadline for filing applications for physical damage is June 9, 2001 and for economic injury the deadline is January 9, 2002.

(Catalog of Federal Domestic Assistance Program Nos. 59002 and 59008.)

Dated: April 20, 2001.
James E. Rivera,
Acting Associate Administrator for Disaster Assistance.

[FR Doc. 01-10498 Filed 4-26-01; 8:45 am]

BILLING CODE 8025-01-P